FEDERAL COMMUNICATIONS COMMISSION

47 CFR Part 63

[IB Docket No. 07-23; DA 11-1151]

Removal of Approved Non-U.S.-Licensed Space Stations From the Section 214 Exclusion List

AGENCY: Federal Communications Commission.

ACTION: Interpretation.

SUMMARY: In this document, the Federal Communications Commission's (Commission's) International Bureau (Bureau) adopts its proposal to remove from the Section 214 Exclusion List those non-U.S.-licensed space stations that have been allowed to enter the U.S. market for satellite services pursuant to the procedures adopted in the DISCO II Order.

DATES: Effective September 13, 2011.

FOR FURTHER INFORMATION CONTACT: Jennifer Balatan or Howard Griboff, Policy Division, International Bureau, (202) 418-1460.

SUPPLEMENTARY INFORMATION: This is a summary of the Bureau's Order, adopted and released on June 30, 2011 (DA 11-1151). The full text of this document is available for inspection and copying during normal business hours in the Commission Reference Center, 445 12th Street, SW., Washington, DC 20554. The document is also available for download over the Internet at http://transition.fcc.gov/Daily_Releases/Daily_Business/2011/db0630/DA-11-1151A1.pdf. The complete text may also be purchased from the Commission's copy contractor, Best Copy and Printing, in person at 445 12th Street, SW., Room CY-B402, Washington, DC 20554, via telephone at (202) 488-5300, via facsimile at (202) 488-5563, or via e-mail at Commission@bcpiweb.com.

Summary of the Order

On January 18, 2007, the Bureau released a Public Notice in IB Docket No. 07-23 (72 FR 9333-02, March 1, 2007), seeking comment on its proposal to further streamline the Section 214 authorization process by removing from the Section 214 Exclusion List those non-U.S.-licensed space stations that have been allowed to enter the U.S. market for satellite services pursuant to the procedures (DISCO II procedures) adopted in the DISCO II Order (62 FR 64167-01, December 4, 1997; as amended at 63 FR 6496-02, February 9, 1998). On June 30, 2011, the Bureau released this Order which adopts the proposal to remove from the Section 214 Exclusion List those non-U.S.-licensed space stations approved to serve the U.S. market pursuant to the DISCO II procedures. As part of this change, the Bureau will create a webpage that provides access to the space stations approved pursuant to the DISCO II procedures in one central location. Specifically, on the Bureau's web page, the Bureau plans to insert a link entitled Space Stations Approved for U.S. Market Access. Once users click on that link, they will be taken to a page with that same title that provides users a way to determine which space stations have been granted market access to the United States pursuant to the DISCO II procedures. The web page will include links to other lists already maintained for DISCO II purposes, such as the Permitted Space Station List and the I-SAT List, as well as entries for non-U.S.-licensed space stations approved for U.S. market access through other procedural means. The Bureau expects that centralizing this information on a web page will facilitate access to such information by common carriers and should address Inmarsat's concern about burdening carriers with the need to review multiple Commission orders in order to determine whether they may access a particular space station. In addition, the non-U.S. space station operator must inform customers that communication with its space station is subject to the conditions and technical requirements specified in the document approving its entry into the U.S. market in addition to the technical requirements in the Commission's rules.

Ordering Clauses

It is ordered that, pursuant to Section 4(i) of the Communications Act of 1934, as amended, 47 U.S.C. 154(i), and Section 0.261 of the Commission's rules, 47 CFR 0.261, this Order is adopted.

It is further ordered that this Order shall be effective September 13, 2011.

Petitions for reconsideration under Section 1.106 of the Commission's rules, 47 CFR 1.106, may be filed within 30 days from the date of public notice of this Order.

Federal Communications Commission.
Mindel De La Torre,
Chief, International Bureau.

[FR Doc. 2011-23270 Filed 9-12-11; 8:45 am]

BILLING CODE 6712-01-P